DEPARTMENT OF ENERGY

Federal Energy Regulatory Commission

Combined Notice of Filings

Take notice that the Commission has received the following Natural Gas & Oil Pipeline Rate and Refund Report filings:

Filings Instituting Proceedings

Docket Numbers: PR23-33-000.

Applicants: Bay Gas Storage Company, LLC.

Description: § 284.123 Rate Filing: Bay Gas Storage 2022 Annual Adjustment to Company Use Percentage to be effective 3/1/2023.

Filed Date: 2/27/23.

Accession Number: 20230227-5038.

Comment Date: 5 p.m. ET 3/20/23.

Docket Numbers: RP23-463-000.

Applicants: Northwest Pipeline LLC.

Description: § 4(d) Rate Filing: Non-Conforming Service Agreement IGI Resources Amendment to be effective 3/27/2023.

Filed Date: 2/24/23.

Accession Number: 20230224-5194.

Comment Date: 5 p.m. ET 3/8/23.

Docket Numbers: RP23-464-000.

Applicants: Millennium Pipeline Company, L.L.C.

Description: Annual Report of Operational Purchases and Sales of Millennium Pipeline Company, LLC.

Filed Date: 2/24/23.

Accession Number: 20230224-5202.

Comment Date: 5 p.m. ET 3/8/23.

Docket Numbers: RP23-465-000.

Applicants: Guardian Pipeline, L.L.C.

Description: § 4(d) Rate Filing: Electric Power Cost Recovery Surcharge Adjustment—Spring 2023 to be effective 4/1/2023.

Filed Date: 2/27/23.

Accession Number: 20230227-5024.

Comment Date: 5 p.m. ET 3/13/23.

Docket Numbers: RP23-466-000.

Applicants: Florida Gas Transmission Company, LLC.

Description: § 4(d) Rate Filing: RNG Tariff Provisions to be effective 3/27/2023.

Filed Date: 2/27/23.

Accession Number: 20230227-5068.

Comment Date: 5 p.m. ET 3/13/23.

Docket Numbers: RP23-467-000.

Applicants: TransColorado Gas Transmission Company LLC.

Description: § 4(d) Rate Filing: TC Quarterly FL&U Update Feb. 2023 to be effective 4/1/2023.

Filed Date: 2/27/23.

Accession Number: 20230227-5109.

Comment Date: 5 p.m. ET 3/13/23.

Docket Numbers: RP23-468-000.

Applicants: Midwestern Gas Transmission Company.

Description: § 4(d) Rate Filing: Annual Fuel Retention Percentage Adjustment—2023 Rate to be effective 4/1/2023.

Filed Date: 2/27/23.

Accession Number: 20230227-5148.

Comment Date: 5 p.m. ET 3/13/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP19-78-009.

Applicants: Panhandle Eastern Pipe Line Company, LP.

Description: Compliance filing: Corrected Opinion No. 885 Compliance Filing-Docket Nos. RP19-78-000, et al. to be effective N/A.

Filed Date: 2/27/23.

Accession Number: 20230227-5026.

Comment Date: 5 p.m. ET 3/13/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 27, 2023.
Debbie-Anne A. Reese,
Deputy Secretary.

[FR Doc. 2023-04381 Filed 3-2-23; 8:45 am]

BILLING CODE 6717-01-P